DEPARTMENT OF DEFENSE

GENERAL SERVICES ADMINISTRATION

NATIONAL AERONAUTICS AND SPACE ADMINISTRATION

48 CFR Parts 1, 2, 4, 6, 13, 14, 15, 18, 19, 26, 33, 36, 42, 52, and 53

[FAC 2005-56; FAR Case 2010-015; Item I; Docket 2010-0015, Sequence 1]

RIN 9000-AL97

Federal Acquisition Regulation; Women-Owned Small Business (WOSB) Program

Correction

In rule document 2012-4475 appearing on pages 12913 through 12924 in the issue of Friday, March 2, 2012, make the following corrections:

PART 52—SOLICITATION PROVISIONS AND CONTRACT CLAUSES

1. On page 12918 in § 52.212-3, in the first column, the fifteenth line from the top of the page is amended to read: “Offeror Representations and Certifications—Commercial Items (APR 2012)”

2. On page 12918 in § 52.212-5, in the first column, the fifth line from the bottom of the page is amended to read: “Contract Terms and Conditions Required to Implement Statutes or Executive Orders—Commercial Items (APR 2012)”

3. On page 12918 in § 52.219-29, in the second column, the first line from the top of the page is amended to read: “(24) 52.219-29, Notice of Set-Aside for Economically Disadvantaged Women-Owned Small Business (EDWOSB) Concerns (APR 2012) (15 U.S.C. 637(m)).”

4. On page 12918 in § 52.219-30, in the second column, the third through sixth lines are amended to read: “(25) 52.219-30, Notice of Set-Aside for Women-Owned Small Business (WOSB) Concerns Eligible Under the WOSB Program (APR 2012) (15 U.S.C. 637(m)).”

5. On page 12918 in § 52.219-1, in the second column, the sixteenth line from the top of the page is amended to read: “Small Business Program Representations (APR 2012)”

6. On page 12918 in § 52.219-29, in the second column, the third line from the bottom of the page is amended to read: “Notice of Set-Aside for Economically Disadvantaged Women-Owned Small Business Concerns (APR 2012)”

7. On page 12918 in § 52.219-30, in the third column, the twenty-fifth line from the top of the page is amended to read: “Notice of Set-Aside for Women-Owned Small Business Concerns Eligible Under the Women-Owned Small Business Program (APR 2012)”

[FR Doc. C1-2012-4475 Filed 3-8-12; 8:45 am]

BILLING CODE 1505-01-D